DEPARTMENT OF THE INTERIOR

National Park Service

[NPS-WASO-NRNHL-32168; PPWOCRAD10, PUC00RP14.R50000]

Cold War Advisory Committee Notice of Public Meeting

AGENCY: National Park Service, Interior.

ACTION: Meeting notice.

SUMMARY: The National Park Service (NPS) is hereby giving notice that the Cold War Advisory Committee (Committee) will meet as indicated below.

DATES: The Committee will meet via GoToWebinar on Tuesday, September 14, 2021, from 2:00 p.m. until approximately 4:00 p.m. (Eastern).

FOR FURTHER INFORMATION CONTACT: Lisa P. Davidson, Ph.D., Acting Program Manager, National Historic Landmarks Program, Historian, Heritage Documentation Programs, National Park Service, telephone at (202) 354-2179, or email lisa_davidson@nps.gov. Teleconference participants may register for the meeting at the following url: https://attendee.gotowebinar.com/register/5948428690832074256.

After registering, participants will receive a confirmation email containing information about joining the teleconference. Participants may register at any time and will receive the login information immediately.

SUPPLEMENTARY INFORMATION: The Committee was established by title VII, subtitle C, section 7210 of the Omnibus Public Land Management Act of 2009 (16 U.S.C. 1a-5 note).

The Committee meeting will be open to the public and will have time allocated for public comment. Meeting minutes will be available upon request approximately eight weeks after the meeting.

Purpose of the Meeting: The Committee assists the Secretary of the Interior in the preparation of a national historic landmark theme study to identify sites and resources significant to the Cold War. The agenda may change to accommodate Committee business. The proposed meeting agenda includes the following:

1. Call to Order and Welcome

2. Welcome from the NPS

3. Introductions

4. Status Report—Mountain Home National Historic Landmarks Nomination and Cold War National Historic Landmarks Theme Study

5. Introduction of Draft Cold War Interpretive Handbook

6. Discussion of Cold War Interpretive Handbook

7. Public Comments

8. Adjourn Meeting

Public Disclosure of Comments: Before including your address, phone number, email address, or other personal identifying information in your comment, you should be aware that your entire comment—including your personal identifying information—may be made publicly available at any time. While you can ask us in your comment to withhold your personal identifying information from public review, we cannot guarantee that we will be able to do so.

(Authority: 5 U.S.C. Appendix 2)

Alma Ripps,
Chief, Office of Policy.

[FR Doc. 2021-17367 Filed 8-12-21; 8:45 am]

BILLING CODE 4312-52-P